SMALL BUSINESS ADMINISTRATION

[Disaster Declaration # 14934 and # 14935]

Georgia Disaster # GA-00082

AGENCY: U.S. Small Business Administration.

ACTION: Notice.

SUMMARY: This is a Notice of the Presidential declaration of a major disaster for Public Assistance Only for the State of GEORGIA (FEMA-4284-DR), dated 10/20/2016.

Incident: Hurricane Matthew.

Incident Period: 10/04/2016 through 10/15/2016.

Effective Date: 10/20/2016.

Physical Loan Application Deadline Date: 12/19/2016.

Economic Injury (EIDL) Loan Application Deadline Date: 07/20/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the President's major disaster declaration on 10/20/2016, Private Non-Profit organizations that provide essential services of governmental nature may file disaster loan applications at the address listed above or other locally announced locations.

The following areas have been determined to be adversely affected by the disaster:

Primary Counties:

Brantley; Bryan; Bulloch; Camden; Candler; Chatham; Effingham; Emanuel; Evans; Glynn; Jenkins; Liberty; Long; Mcintosh; Pierce; Screven; Tattnall; Toombs; Wayne

The Interest Rates are:

| Percent
For Physical Damage:
Non-Profit Organizations With Credit Available Elsewhere | 2.625
Non-Profit Organizations Without Credit Available Elsewhere | 2.625
For Economic Injury:
Non-Profit Organizations Without Credit Available Elsewhere | 2.625

The number assigned to this disaster for physical damage is 149348 and for economic injury is 149358

(Catalog of Federal Domestic Assistance Number 59008)

Lisa Lopez-Suarez,
Acting Associate Administrator for Disaster Assistance.

[FR Doc. 2016-26285 Filed 10-31-16; 8:45 am]

BILLING CODE 8025-01-P